DEPARTMENT OF TRANSPORTATION

Office of the Secretary

Availability of Draft DOT Strategic Plan for FY 2018-2022 and Request for Public Comment

AGENCY: Office of the Secretary, U.S. Department of Transportation (DOT).

ACTION: Notice of availability and request for public comment.

SUMMARY: The Office of the Secretary of Transportation invites the public to comment on the draft DOT Strategic Plan for FY 2018-2022.

DATES: Comments must be received on or before November 13, 2017.

ADDRESSES: Written comments may be submitted by email or U.S. mail. Respondents are encouraged to submit comments electronically to ensure timely receipt. Please include your name, title, organization, postal address, telephone number, and email address.

Email: dotstrategicplanning@dot.gov. Please include the full body of your comments in the text of the electronic message and as an attachment.

Mail: U.S. Department of Transportation, Office of the Under Secretary for Policy, Attn: Strategic Plan Comments, 1200 New Jersey Avenue SE., Washington, DC 20590.

FOR FURTHER INFORMATION CONTACT: Barbara McCann, Director, Office of Policy Development, Strategic Planning and Performance, Office of the Under Secretary for Policy, dotstrategicplanning@dot.gov.

SUPPLEMENTARY INFORMATION:

Background

The Government Performance and Results Act (GPRA) of 1993, as amended by the GPRA Modernization Act of 2010 (Pub. L. 111-352), requires that Federal agencies revise and update their strategic plan at the beginning of each new presidential term, and in doing so, solicit input from interested stakeholders.

The draft DOT Strategic Plan reflects the Secretary's priorities for achieving DOT's mission through four strategic goals:

Safety: Reduce Transportation-Related Fatalities and Serious Injuries Across the Transportation System.

Infrastructure: Invest in Infrastructure to Ensure Mobility and Accessibility and to Stimulate Economic Growth, Productivity and Competitiveness for American Workers and Businesses.

Innovation: Lead in the Development and Deployment of Innovative Practices and Technologies that Improve the Safety and Performance of the Nation's Transportation System.

Accountability: Serve the Nation with Reduced Regulatory Burden and Greater Efficiency, Effectiveness and Accountability.

These strategic goals are supported by objectives that reflect the outcomes DOT is trying to achieve and strategies that describe how DOT plans to make progress toward the objectives.

The draft DOT Strategic Plan for FY 2018-2022 may be accessed through the DOT Web site at https://www.transportation.gov/dot-strategic-plan.

DOT will consider all input and revise the draft DOT Strategic Plan as appropriate. DOT anticipates that the final DOT Strategic Plan for FY 2018-2022 will be submitted to Congress and posted on the DOT Web site in February 2018.

Dated: October 19, 2017.
Finch Fulton,
Deputy Assistant Secretary for Transportation Policy.

[FR Doc. 2017-23155 Filed 10-24-17; 8:45 am]

BILLING CODE 4910-9X-P